POSTAL REGULATORY COMMISSION

[Docket No. CP2016-207; Order No. 3369]

Postal Rate Changes

AGENCY: Postal Regulatory Commission.

ACTION: Notice.

SUMMARY: The Commission is noticing a recent Postal Service filing announcing its intention to change in rates not of general applicability for Inbound Parcel Post (at Universal Postal Union (UPU) Rates). This notice informs the public of the filing, invites public comment, and takes other administrative steps.

DATES: Comments are due: June 23, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On June 14, 2016, the Postal Service filed notice announcing its intention to change rates not of general applicability for Inbound Parcel Post (at Universal Postal Union (UPU) Rates) effective July 1, 2016.¹

¹ Notice of the United States Postal Service of Filing Changes in Rates Not of General Applicability for Inbound Parcel Post (at UPU Rates) and Application for Non-Public Treatment, June 14, 2016, at 1-2 (Notice).

II. Contents of Filing

To accompany its Notice, the Postal Service filed the following materials:

• Attachment 1—an application for non-public treatment of materials filed under seal;

• Attachment 2—a redacted copy of Governors' Decision No. 14-04;

• Attachment 3—a redacted copy of UPU International Bureau (IB) Circular 49, which contains the new rates;

• Attachment 4—a copy of the certification required under 39 CFR 3015.5(c)(2); and

• Attachment 5—documentation in support of inflation-linked adjustment for inward land rates.

Id., Attachments 1-5.

The Postal Service also filed supporting financial workpapers, an unredacted copy of Governors' Decision 14-04, an unredacted copy of the new rates, and related financial information under seal. Id.

In accordance with Order Nos. 2102 ² and 2310,³ the Postal Service has: (1) Provided documentation supporting the inflation-linked adjustment as Attachment 5; (2) updated its advisory delivery information in a timely manner in the UPU's online compendium to justify bonus payments; (3) provided the date that the UPU advised the United States of the Inward Land Rate, and provided the calculation of the rate for the pertinent year, in the UPU IB Circular 49 as Attachment 3; (4) provided the special drawing rights (SDR) conversion rate of 1 SDR to $1.41474 U.S. dollars used for the cost coverage analysis; and (5) provided the estimated cost coverage for Inbound Parcel Post (at UPU rates) for the pertinent year. Notice at 3-4.

² Docket No. CP2014-52, Order Accepting Price Changes for Inbound Air Parcel Post (at UPU Rates), June 26, 2014, at 6 (Order No. 2102).

³ Docket No. CP2015-24, Order Accepting Changes in Rates for Inbound Parcel Post (at UPU Rates), December 29, 2014, at 4 (Order No. 2310).

III. Commission Action

The Commission establishes Docket No. CP2016-207 for consideration of matters raised by the Notice.

The Commission invites comments on whether the Postal Service's filing is consistent with 39 U.S.C. 3632, 3633, and 39 CFR part 3015. Comments are due no later than June 23, 2016. The public portions of the filing can be accessed via the Commission's Web site (http://www.prc.gov).

The Commission appoints Katalin K. Clendenin to serve as Public Representative in this docket.

IV. Ordering Paragraphs

It is ordered:

1. The Commission establishes Docket No. CP2016-207 for consideration of the matters raised by the Postal Service's Notice.

2. Pursuant to 39 U.S.C. 505, Katalin K. Clendenin is appointed to serve as an officer of the Commission to represent the interests of the general public in this proceeding (Public Representative).

3. Comments are due no later than June 23, 2016.

4. The Secretary shall arrange for publication of this order in the Federal Register.

By the Commission.
Stacy L. Ruble,
Secretary.

[FR Doc. 2016-14564 Filed 6-20-16; 8:45 am]

BILLING CODE 7710-FW-P